DEPARTMENT OF HOMELAND SECURITY

Published Privacy Impact Assessments on the Web

AGENCY: Privacy Office, Office of the Secretary, Department of Homeland Security.

ACTION: Notice of Publication of Privacy Impact Assessments.

SUMMARY: The Privacy Office of the Department of Homeland Security is making available five Privacy Impact Assessments on various programs and systems in the Department. These assessments were approved and published on the Privacy Office's Web site between October 1, 2006 and October 31, 2006.

Dates: The Privacy Impact Assessment will be available on the DHS Web site until February 20, 2007, after which it may be obtained by contacting the DHS Privacy Office (contact information below).

FOR FURTHER INFORMATION CONTACT: Hugo Teufel III, Chief Privacy Officer, Department of Homeland Security, Washington, DC 20528; by telephone (571) 227-3813, facsimile (866) 466-5370, or e-mail: pia@dhs.gov.

SUPPLEMENTARY INFORMATION: Between October 1, 2006 and October 31, 2006, the Chief Privacy Officer of the Department of Homeland Security (DHS) approved and published five Privacy Impact Assessments (PIAs) on the DHS Privacy Office Web site, http://www.dhs.gov/privacy, under the link for “Privacy Impact Assessments.” These PIAs cover five separate DHS programs. Below is a short summary of each of those programs, indicating the DHS component responsible for the system, and the date on which the PIA was approved. Additional information can be found on the Web site or by contacting the Privacy Office.

1. Background Check Service

Citizenship and Immigration Services

October 31, 2006: The United States Citizenship and Immigration Services (USCIS) is developing the Background Check Service (BCS) to help streamline the established USCIS background check process. As part of the adjudication process, USCIS conducts three different background checks on applicants/petitioners applying for USCIS benefits. These include (1) a Federal Bureau of Investigation (FBI) Fingerprint Check, (2) a FBI Name Check and (3) a Customs and Border Protection (CBP) Treasury Enforcement Communication System/Interagency Border Inspection System (TECS/IBIS) Name Check. Prior to BCS, information relating to the FBI Fingerprint Checks and the FBI Name Checks was stored in two different systems. Information relating to the TECS/IBIS Name Checks was not stored in any system. BCS will be the central repository for all activity related to these background checks.

2. MAXHR Solution Component ePerformance System Update

Management

October 13, 3006: The update is to acknowledge a new version due to a new DHS-specific System of Records Notice, MaxHR ePerformance Management System DHS/OCHCO-001, that is being published in the Federal Register in order to provide additional transparency to DHS employees regarding the program.

3. Electronic Travel Document

Immigration and Customs Enforcement

October 17, 2006: The Electronic Travel Document System (eTD) will maintain personal information regarding aliens who have been ordered removed or have been removed from the United States. The eTD will also maintain information on U.S. government employees and foreign consular officials required to access the system. The eTD system will present and share alien information with the foreign consular officials and associated governments for their use in the expedited issuance of travel documents.

4. Personal Identity Verification (PIV) HSPD 12

Management

October 13, 2006: Homeland Security Presidential Directive 12 (HSPD-12), issued on August 27, 2004, required the establishment of a standard for identification of Federal Government employees and contractors. HSPD-12 directs the use of a common identification credential for both logical and physical access to federally controlled facilities and information systems. This initiative is intended to enhance security, increase efficiency, reduce identity fraud, and protect personal privacy.

5. Natural Disaster Medical System

Federal Emergency Management Agency

October 13, 2006: The National Disaster Medical System Medical Professional Credentials (NDMS) provides health services, health-related social services, other appropriate human services, and appropriate auxiliary services including mortuary and veterinary medical services in times of national emergency. NDMS also allows providers to respond to the needs of victims of a public health emergency or other public emergency, as defined in 42 U.S.C. 300hh-11(b)(3)(A). The NDMS program collects and maintains personally identifiable information in order to hire and retain qualified medical professionals and other professionals that can be activated and deployed in times of emergency.

Dated: December 12, 2006.
Hugo Teufel III,
Chief Privacy Officer.

[FR Doc. E6-21751 Filed 12-19-06; 8:45 am]

BILLING CODE 4410-10-P